DEPARTMENT OF LABOR

Employment and Training Administration

[TA-W-40,666]

Loren Castings, Inc., Loren Industries Including Leased Workers of ADP Totalsource, Hollywood, Florida; Amended Certification Regarding Eligibility To Apply for Worker Adjustment Assistance

In accordance with Section 223 of the Trade Act of 1974 (19 U.S.C. 2273) the Department of Labor issued a Certification of Eligibility to Apply for Worker Adjustment Assistance on July 19, 2002, applicable to workers of Loren Castings, Inc., Loren Industries, Hollywood, Florida. The notice was published in the Federal Register on August 7, 2002 (67 FR 51295).

At the request of the State agency, the Department reviewed the certification for workers of the subject firm. Information provided by the State shows that some employees of Loren Castings, Inc., Loren Industries were leased from ADP Totalsource to produce jewelry at the Hollywood, Florida facility of the subject firm.

Based on these findings, the Department is amending the certification to include leased workers of ADP Totalsource producing jewelry at the Hollywood, Florida location of the subject firm.

The intent of the Department's certification is to include all workers of Loren Castings, Inc., Loren Industries adversely affected by increased imports.

The amended notice applicable to TA-W-40,666 is hereby issued as follows:

“All workers of Loren Castings, Inc., Loren Industries, Hollywood, Florida, engaged in employment related to the production of jewelry, including leased workers of ADP Totalsource, engaged in employment related to the production of jewelry at Loren Castings, Inc., Loren Industries, Hollywood, Florida, who became totally or partially separated from employment on or after December 4, 2000, through July 19, 2004, are eligible to apply for adjustment assistance under Section 223 of the Trade Act of 1974.”

Signed at Washington, DC this 15th day of January 2003.
Linda G. Poole,
Certifying Officer, Division of Trade Adjustment Assistance.

[FR Doc. 03-2868 Filed 2-5-03; 8:45 am]

BILLING CODE 4510-30-P